DEPARTMENT OF THE INTERIOR

Minerals Management Service

Agency Information Collection Activities: Proposed Collection, Comment Request

AGENCY: Minerals Management Service (MMS), Interior.

ACTION: Notice of an extension of an information collection (OMB Control Number 1010-0074).

SUMMARY: To comply with the Paperwork Reduction Act of 1995, we are soliciting comments on an information collection titled, Coal Washing and Transportation Allowances. We will submit an information collection request (ICR) to the Office of Management and Budget (OMB) for review and approval after this comment period closes.

DATES: Submit written comments on or before January 8, 2001.

ADDRESSES: Submit written comments to Connie Bartram, Acting Chief, Regulations and FOIA Team, Minerals Management Service, Minerals Revenue Management, P.O. Box 25165, MS 320B2, Denver, Colorado 80225. If you use an overnight courier service, our courier address is Building 85, Room A-613, Denver Federal Center, Denver, Colorado 80225.

PUBLIC COMMENT PROCEDURE: You may mail your comments to us (see ADDRESSES section), or you may email your comments to us at MRM.comments@mms.gov. Include the title of the information collection and the OMB Control Number in the “Attention” line of your comment; also, include your name and return address. Submit electronic comments as an ASCII file avoiding the use of special characters and any form of encryption. If you do not receive a confirmation that we have received your email, contact Ms. Bartram at (303) 231-3410, FAX (303) 231-3385. We will post all comments at http://www.rmp.mms.gov for public review.

Also, contact Ms. Bartram to review paper copies of the comments. The comments, including names and addresses of respondents, are available for public review during regular business hours at our offices in Lakewood, Colorado. Individual respondents may request that we withhold their home address from the public record, which we will honor to the extent allowable by law.

There also may be circumstances in which we would withhold from the public record a respondent's identity, as allowable by law. If you request that we withhold your name and/or address, state this prominently at the beginning of your comment. However, we will not consider anonymous comments. We will make all submissions from organizations or businesses, and from individuals identifying themselves as representatives or officials of organizations or businesses, available for public inspection in their entirety.

FOR FURTHER INFORMATION CONTACT: Dennis C. Jones, Regulations and FOIA Team, phone (303) 231-3046, FAX (303) 231-3385, email Dennis.C.Jones@mms.gov. A copy of the ICR will be available to you without charge upon request.

SUPPLEMENTARY INFORMATION: Title: Coal Washing and Transportation Allowances.

OMB Control Number: 1010-0074.

Bureau Form Number: n/a.

Abstract: The Department of the Interior (DOI) is responsible for matters relevant to mineral resource development on Federal and Indian Lands and the Outer Continental Shelf (OCS). The Secretary of the Interior (Secretary) is responsible for managing the production of minerals from Federal and Indian Lands and the OCS; for collecting royalties from lessees who produce minerals; and for distributing the funds collected in accordance with applicable laws. The Secretary also has an Indian trust responsibility to manage Indian lands and seek advice and information from Indian beneficiaries.

The Secretary is required by various laws to manage the production of mineral resources on Indian lands, to collect the royalties due, and to distribute the funds in accordance with those laws. The product valuation and allowance determination process that we perform on behalf of the Secretary is essential to assure that the Indians receive payment on the full value of the minerals being removed. When a company or an individual enters into a lease to develop, mine, and dispose of coal deposits from Indian lands, that company or individual (the lessee) agrees to pay the gross proceeds received from the sale of production from the leased lands.

Royalty rates are specified in an Indian lease agreement. The lessee is required to report various kinds of information to the lessor relative to the transportation, processing, and commercial transactions associated with the disposition of the leased minerals. In order to determine whether the amount of royalty tendered represents the proper royalty due, it is necessary to establish the value of the coal being sold or otherwise disposed of in some other manner (for example, used by the lessee). Under some circumstances the lessee may be authorized to deduct certain costs in the calculation of royalties due from an Indian lease, and allowances may be granted from royalties to compensate the lessee for the reasonable actual cost of washing and transporting the royalty portion of coal.

Frequency: Annually.

Estimated Number and Description of Respondents: 1 company or individual entering into an Indian lease.

Estimated Annual Reporting and Recordkeeping “Hour” Burden: 2 hours.

Estimated Annual Reporting and Recordkeeping “Non-hour Cost” Burden: n/a.

Comments: The Paperwork Reduction Act at 44 U.S.C. 3506(c)(2)(A) requires each agency “to provide notice * * * and otherwise consult with members of the public and affected agencies concerning each proposed collection of information.* * *” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

The Paperwork Reduction Act also requires agencies to estimate the total annual reporting “non-hour cost” burden to respondents or recordkeepers resulting from the collection of information. We have not identified non-hour cost burdens and need to know if there are other costs associated with the collection of this information for either total capital and startup cost components or annual operation, maintenance, and purchase of service components. Your estimates should consider the costs to generate, maintain, and disclose or provide the information. You should describe the methods you use to estimate major cost factors, including system and technology acquisition, expected useful life of capital equipment, discount rate(s), and the period over which you incur costs. Capital and startup costs include, among other items, computers and software you purchase to prepare for collecting information; monitoring, sampling, drilling, and testing equipment; and record storage facilities.

Your estimates should not include equipment or services purchased: (i) Before October 1, 1995; (ii) to comply with requirements not associated with the information collection; (iii) for reasons other than to provide information or keep records for the Government; or (iv) as part of customary and usual business or private practices.

The Paperwork Reduction Act provides that an agency shall not conduct or sponsor, and a person is not required to respond to, a collection of information unless it displays a currently valid OMB Control Number.

Dated: November 3, 2000.
Cathy Hamilton,
Acting Associate Director for Minerals Revenue Management.

[FR Doc. 00-28822 Filed 11-8-00; 8:45 am]

BILLING CODE 4310-MR-P